GENERAL SERVICES ADMINISTRATION

[PBS-N02]

Notice of Availability of the Draft Environmental Assessment and Wetland Involvement for the Transformation of Facilities and Infrastructure for the Non-Nuclear Production Activities Conducted at the National Nuclear Security Administration's Kansas City Plant at Kansas City, MO

AGENCIES: General Services Administration (GSA).

ACTION: Correction.

SUMMARY: GSA published a notice in the Federal Register at 72 FR 69690 on Monday, December 10, 2007, concerning the National Nuclear Security Administration's Kansas City Plant at Kansas City, MO. The document contained an incorrect state abbreviation and date format.

DATES: December 17, 2007.

FOR FURTHER INFORMATION CONTACT: Ms. Diedra Wingate at (202) 501-4755, GSA, Regulatory Secretariat.

Corrections

In the notice document FR Doc. E7-23843 on page 69690 make the following corrections:

In the first column, the last line of the notice title “Kansas City, MI” should read “Kansas City, MO”. In the second column, under the heading DATES, in the third line, “Monday, January 14th”, should read “Monday, January 14, 2008”.

Diedra Wingate,
Regulatory Secretariat.

[FR Doc. E7-24354 Filed 12-14-07; 8:45 am]

BILLING CODE 6820-EP-P